DEPARTMENT OF DEFENSE

Office of the Secretary

Notice of Availability of Draft Environmental Impact Statement For the Long Range Discrimination Radar Operations at Clear Air Force Station, Alaska

AGENCY: Missile Defense Agency, Department of Defense.

ACTION: Notice of availability.

SUMMARY: The Missile Defense Agency (MDA), as the lead agency, announces the availability of the Draft Environmental Impact Statement (EIS) to evaluate the potential environmental impacts associated with proposed changes in operational concept and other associated activities for the Long Range Discrimination Radar (LRDR) located at Clear Air Force Station (CAFS), Alaska. The Federal Aviation Administration (FAA) and the Department of the Air Force (DAF) are cooperating agencies to this Draft EIS. The Draft EIS was prepared in accordance with the National Environmental Policy Act (NEPA) of 1969; the Council on Environmental Quality Regulations for Implementing the Procedural Provisions of NEPA; MDA's NEPA Implementing Procedures; DAF Environmental Impact Analysis Process; and FAA's NEPA Policies and Procedures. The Draft EIS also supports compliance with the National Historic Preservation Act of 1966 and its implementing regulations.

DATES: The 52-day public comment period will be from October 30, 2020 to December 21, 2020. All public comments are requested by December 21, 2020. Due to recent federal and state guidance on public gatherings, MDA will hold an Online Open House and Telephone Public Meeting, in place of in-person public meetings. Notification for public involvement will be published and announced in local news media to encourage public participation and review.

ADDRESSES: Comments may be submitted by:

• Email: lrdr.info@mda.mil.

• Voicemail: 256-450-1599.

• Fax: 907-644-2022.

• Mail: LRDR CAFS EIS C/O HDR 2525 C Street, Suite 500, Anchorage, AK 99503.

All comments received during the 52-day public comment period will become part of the public record and considered in the Final EIS.

FOR FURTHER INFORMATION CONTACT: Mr. Ryan Keith, MDA Public Affairs, at 256-450-1599 or by email: lrdr.info@mda.mil.

SUPPLEMENTARY INFORMATION:

Proposed Action and Alternative: In response to the Congressional mandate to deploy the LRDR, MDA completed a siting analysis for the LRDR, which selected CAFS out of 50 candidate Department of Defense installations in Alaska. In June 2016, MDA and DAF prepared an Environmental Assessment (EA), to evaluate the potential environmental impacts associated with the construction and operation of the LRDR at CAFS. The 2016 EA resulted in a Finding of No Significant Impact, and construction of the LRDR began in July 2017. Since that time, due to emerging threats, the MDA proposes to modify the LRDR operational requirements and procedures to reflect continuous operations. Due to the proposed changes to LRDR operations, airspace restrictions at CAFS are necessary to ensure that aircraft would not encounter high intensity radiation fields (HIRF) resulting from the LRDR operations that exceed FAA's HIRF certification standards for aircraft electrical and electronic systems. The proposed airspace restrictions include expanding the existing Restricted Area (R-2206) at CAFS by adding six new Restricted Areas.

MDA has considered two alternatives to the Proposed Action: The No Action Alternative and the two-tier alternative. Under the No Action Alternative, the LRDR would be operated in a manner that would contain HIRF within existing R-2206 such that no new actions would need to be taken to limit aircraft flight. Under the two-tier alternative, the existing R-2206 would be expanded with two new Restricted Areas. The two-tier alternative was presented during the scoping process, but was eliminated from further analysis in order to minimize potential impacts on airspace.

The environmental analysis in the Draft EIS addresses the following environmental resource areas: Airspace management; air quality; biological resources; climate; hazardous materials; solid waste and pollution prevention; historical, architectural, archaeological, and cultural resources; land use; natural resources and energy supply; noise and compatible land use; safety; socioeconomics and environmental justice; subsistence; visual effects; and water resources.

This Draft EIS supports the FAA rulemaking process related to the Restricted Areas.

Comments Invited: MDA invites all interested members of the public, as well as federal, state, tribal and local agencies, to comment on the Proposed Action and to participate in the Online Open House and the Telephone Public Meeting in review of the Draft EIS. Through these public involvement opportunities, attendees can learn about findings in the Draft EIS and may provide verbal and written comments. For more information, including a downloadable copy of the Draft EIS, visit the MDA's website at https://www.mda.mil/system/lrdr.

Dated: October 23, 2020.
Aaron T. Siegel,
Alternate OSD Federal Register Liaison Officer, Department of Defense.

[FR Doc. 2020-23889 Filed 10-27-20; 8:45 am]

BILLING CODE 5001-06-P